DEPARTMENT OF COMMERCE

Foreign-Trade Zones Board

[S-02-2016]

Foreign-Trade Zone 243—Victorville, California; Application for Subzone Expansion; Subzone 243A; Black & Decker (U.S.) Inc.; Rialto, California

An application has been submitted to the Foreign-Trade Zones (FTZ) Board by the City of Victorville, California, grantee of FTZ 243, requesting an additional site within Subzone 243A on behalf of Black & Decker (U.S.) Inc., located in Rialto, California. The application was submitted pursuant to the provisions of the Foreign-Trade Zones Act, as amended (19 U.S.C. 81a-81u), and the regulations of the FTZ Board (15 CFR part 400). It was formally docketed on January 14, 2016.

Subzone 243A was approved on May 20, 2005 (70 FR 32570, 06-03-2005) and currently consists of one site: Site 1 (29 acres)—1590 N. Tamarind Avenue, Rialto, California. The applicant is now requesting authority to expand the subzone further to include an additional site: Proposed Site 2 (39.43 acres)—15750 Jurupa Avenue, Fontana, California. No authorization for production activity has been requested at this time. The expanded subzone would be subject to the existing activation limit of FTZ 243.

In accordance with the FTZ Board's regulations, Christopher Kemp of the FTZ Staff is designated examiner to review the application and make recommendations to the Executive Secretary.

Public comment is invited from interested parties. Submissions shall be addressed to the FTZ Board's Executive Secretary at the address below. The closing period for their receipt is February 29, 2016. Rebuttal comments in response to material submitted during the foregoing period may be submitted during the subsequent 15-day period to March 15, 2016.

A copy of the application will be available for public inspection at the Office of the Executive Secretary, Foreign-Trade Zones Board, Room 21013, U.S. Department of Commerce, 1401 Constitution Avenue NW, Washington, DC 20230-0002, and in the “Reading Room” section of the FTZ Board's Web site, which is accessible via www.trade.gov/ftz.

For further information, contact Christopher Kemp at christopher.kemp@trade.gov or (202) 482-0862.

Dated: January 14, 2016.
Andrew McGilvray,
Executive Secretary.

[FR Doc. 2016-01039 Filed 1-19-16; 8:45 am]

BILLING CODE 3510-DS-P